DEPARTMENT OF HEALTH AND HUMAN SERVICES

National Institutes of Health

Notice of Scientific Summit; The Science of Compassion—Future Directions in End-of-Life and Palliative Care

SUMMARY: Notice is hereby given that the National Institute of Nursing Research (NINR), National Institutes of Health (NIH), Department of Health and Human Services, will convene a scientific summit titled “The Science of Compassion—Future Directions in End-of-Life and Palliative Care.” The summit is cosponsored by the NIH Office of Rare Diseases Research, the NIH Office of Research on Women's Health, the National Center for Complementary and Alternative Medicine, the National Institute on Aging, and the NIH Clinical Center Department of Bioethics. Portions of the event are supported by the Foundation for the National Institutes of Health and Pfizer.

DATES: The summit will begin Wednesday evening, August 10, 2011, 7 p.m. to 9 p.m. and continue August 11-12.

ADDRESSES: The Summit will be held at the Hyatt Regency in Bethesda, Maryland, located at One Bethesda Metro Center (7400 Wisconsin Avenue), Bethesda, Maryland 20814.

FOR FURTHER INFORMATION CONTACT: To register for the summit, please visit http://www.ninr.nih.gov/ResearchAndFunding/scienceofcompassion.htm. For additional information, please contact Ms. Crystal Esler, NINR, at crystal.esler@nih.gov or 301-496-9629.

SUPPLEMENTARY INFORMATION: Increasing numbers of Americans live for years with serious, advanced illness and then later die from the consequences of these debilitating conditions. There is an urgent need to improve the quality of life for those with life-limiting conditions through increased use of evidence-based end-of-life and palliative care (EOL PC) services. The objectives of this summit are to examine the current status of EOL PC research and practice; propose strategies to overcome barriers and ensure scientific and methodologic rigor in EOL PC research; delineate new action items that galvanize progress in these vital areas of science; and envision and map pathways to ensure a future rich with EOL PC scientific endeavor and achievements. This summit, held in conjunction with NINR's commemoration of its 25th Anniversary, will bring together scientists, EOL PC health professionals, educators, members of professional organizations, and individuals with life-limiting illnesses, as well as their caregivers.

The summit will begin with a Town Hall discussion on the evening of August 10 on the ethics of science at the end-of-life. On August 11-12, the summit will feature keynote presentations, three plenary discussions, and break-out sessions. Leading experts from interdisciplinary fields of research will address a range of EOL PC issues. A special lunch-hour presentation on August 11 will feature a dialogue on parents and clinicians as partners in research. The summit will conclude at 2 p.m. on August 12.

Dated: August 1, 2011.
Lawrence A. Tabak,
Deputy Director, National Institutes of Health.

[FR Doc. 2011-20004 Filed 8-4-11; 8:45 am]

BILLING CODE 4140-01-P